DEPARTMENT OF LABOR

Employment and Training Administration

[TA-W-51,758]

Teleflex Automotive, Inc., a Division of Teleflex, Inc., Van Wert, OH; Notice of Negative Determination Regarding Application for Reconsideration

By application of June 13, 2003, a petitioner requested administrative reconsideration of the Department's negative determination regarding eligibility for workers and former workers of the subject firm to apply for Trade Adjustment Assistance (TAA). The denial notice was signed on June 6, 2003, and published in the Federal Register on June 19, 2003 (68 FR 36846).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The TAA petition, filed on behalf of workers at Teleflex Automotive, Inc., a division of Teleflex, Inc., Van Wert, Ohio, engaged in the production of patterns, was denied because the “contributed importantly” group eligibility requirement of Section 222(3) of the Trade Act of 1974, as amended, was not met. The “contributed importantly” test is generally demonstrated through a survey of the workers' firm's customers. The Department conducted a survey of the subject firm's major customers regarding their purchases of competitive products in 2000 through April 2003. The respondents reported no increased imports. The subject firm did not increase its reliance on imports of accelerator cable during the relevant period, nor did it shift production to a foreign source.

The petitioner alleges that the layoffs are attributable to a shift in production to Mexico.

A review of the initial investigation revealed that the company will shift production to Mexico in the third or fourth quarter of 2003; however, the scheduled shift is beyond the relevant period of this investigation.

Conclusion

After review of the application and investigative findings, I conclude that there has been no error or misinterpretation of the law or of the facts which would justify reconsideration of the Department of Labor's prior decision. Accordingly, the application is denied.

Signed at Washington, DC, this 18th day of July, 2003.
Elliott S. Kushner,
Certifying Officer, Division of Trade Adjustment Assistance.

[FR Doc. 03-20109 Filed 8-6-03; 8:45 am]

BILLING CODE 4510-30-P